DEPARTMENT OF COMMERCE

International Trade Administration

[A-485-805]

Certain Small Diameter Carbon and Alloy Seamless Standard, Line, and Pressure Pipe From Romania: Extension of Time Limit for Preliminary Results of Antidumping Duty Administrative Review

AGENCY: Import Administration, International Trade Administration, Department of Commerce.

DATES: Effective Date: April 11, 2012.

FOR FURTHER INFORMATION CONTACT: Thomas Schauer, AD/CVD Operations, Office 1, Import Administration, International Trade Administration, U.S. Department of Commerce, 14th Street and Constitution Avenue NW., Washington, DC 20230; telephone: (202) 482-0410.

SUPPLEMENTARY INFORMATION:

Background

At the request of ArcelorMittal Tubular Products Roman S.A. (AMTP), Romanian producer and exporter of the subject merchandise, the Department of Commerce (the Department) initiated an administrative review of the antidumping duty order on certain small diameter carbon and alloy seamless standard, line and pressure pipe from Romania for the period August 1, 2010, through July 31, 2011. See Initiation of Antidumping and Countervailing Duty Administrative Reviews and Requests for Revocation in Part, 76 FR 61076 (October 3, 2011). The preliminary results of this review are currently due no later than May 2, 2012.

Extension of Time Limit for Preliminary Results

Section 751(a)(3)(A) of the Tariff Act of 1930, as amended (the Act), requires the Department to complete the preliminary results within 245 days after the last day of the anniversary month of an order for which a review is requested. If it is not practicable to complete the review within this time period, section 751(a)(3)(A) of the Act allows the Department to extend the time limit for the preliminary results to a maximum of 365 days after the last day of the anniversary month.

We determine that it is not practicable to complete the preliminary results of this review within the original time limit because we have, subsequent to receipt of AMTP's questionnaire responses, initiated a sales-below-cost investigation based upon the allegation of the petitioner, U.S. Steel. See the memorandum to Susan Kuhbach dated February 24, 2012. We are still in the process of analyzing AMTP's response to section D of our questionnaire and it is not practicable to do this, issue a supplemental questionnaire, and analyze the supplemental response (and issue any further supplemental questionnaires, as necessary) before the current deadline. Therefore, we are extending the time period for issuing the preliminary results of this review by 105 days until August 15, 2012.

This notice is published in accordance with section 751(a)(3)(A) of the Act and 19 CFR 351.213(h)(2).

Dated: April 5, 2012.
Edward C. Yang,
Acting Deputy Assistant Secretary for Antidumping and Countervailing Duty Operations.

[FR Doc. 2012-8747 Filed 4-10-12; 8:45 am]

BILLING CODE 3510-DS-P